DEPARTMENT OF COMMERCE

National Oceanic and Atmospheric Administration

[I.D. 102204B]

Endangered Species; File No. 1418

AGENCY: National Marine Fisheries Service (NMFS), National Oceanic and Atmospheric Administration (NOAA), Commerce.

ACTION: Issuance of permit amendment.

SUMMARY: Notice is hereby given that Lawrence D. Wood, Marinelife Center of Juno Beach, 14200 U.S. Hwy. 1, Juno Beach, FL, 33408 has been issued a modification to scientific research Permit No. 1418.

ADDRESSES: The modification and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Patrick Opay or Amy Sloan, (301)713-2289.

SUPPLEMENTARY INFORMATION: On September 9, 2004, notice was published in the Federal Register (69 FR 54649) that a modification of Permit No. 1418, issued January 14, 2004 (69 FR 2118), had been requested by the above-named individual. The requested modification has been granted under the authority of the Endangered Species Act of 1973, as amended (ESA; 16 U.S.C. 1531 et seq.) and the regulations governing the taking, importing, and exporting of endangered and threatened species (50 CFR 222-226).

The modification authorizes Mr. Wood to sample blood for sex determinations from the 75 hawksbill (Eretmochelys imbricata) sea turtles he is already authorized to annually capture under the existing permit.

Issuance of this modification, as required by the ESA was based on a finding that such permit (1) was applied for in good faith, (2) will not operate to the disadvantage of the endangered species which is the subject of this permit, and (3) is consistent with the purposes and policies set forth in section 2 of the ESA.

Dated: December 6, 2004.
Stephen L. Leathery,
Chief, Permits, Conservation and Education Division, Office of Protected Resources, National Marine Fisheries Service.

[FR Doc. 04-27179 Filed 12-9-04; 8:45 am]

BILLING CODE 3510-22-S